DEPARTMENT OF AGRICULTURE

Foreign Agricultural Service

Trade Adjustment Assistance for Farmers

AGENCY: Foreign Agricultural Service, USDA.

ACTION: Notice.

The Administrator, Foreign Agricultural Service (FAS), today denied a petition for trade adjustment assistance (TAA) that was filed on February 13, 2004, by the Michigan Fish Producers' Association, representing channel catfish fishermen in Michigan.

SUPPLEMENTARY INFORMATION: Upon investigation, the Administrator determined that landed prices for channel catfish did not decline by more than 20 percent during the January-December 2003 marketing year, a condition required for certifying a petition for TAA.

FOR FURTHER INFORMATION CONTACT: Jean-Louis Pajot, Coordinator, Trade Adjustment Assistance for Farmers, FAS, USDA, (202) 720-2916, e-mail: trade.assistance@fas.usda.gov.

Dated: March 8, 2004.
A. Ellen Terpstra,
Administrator, Foreign Agricultural Service.

[FR Doc. 04-6191 Filed 3-18-04; 8:45 am]

BILLING CODE 3410-10-M